SECURITIES AND EXCHANGE COMMISSION

[File No. 500-1]

In the Matter of L. Luria & Son, Inc., Lew Corp. (n/k/a Questus Global Limited), Library Bureau, Inc., Life Sciences, Inc., Lifesmart Nutrition Technologies, Inc., Lightning Rod Software, Inc., Lindatech, Inc., Littlefield, Adams & Company, and Liuski International, Inc.; Order of Suspension of Trading

January 29, 2010.

It appears to the Securities and Exchange Commission that there is a lack of current and accurate information concerning the securities of L. Luria & Son, Inc. because it has not filed any periodic reports since the period ended May 3, 1997.

It appears to the Securities and Exchange Commission that there is a lack of current and accurate information concerning the securities of Lew Corp. (n/k/a Questus Global Limited) because it has not filed any periodic reports since the period ended December 31, 2001.

It appears to the Securities and Exchange Commission that there is a lack of current and accurate information concerning the securities of Library Bureau, Inc. because it has not filed any periodic reports since July 2, 1994.

It appears to the Securities and Exchange Commission that there is a lack of current and accurate information concerning the securities of Life Sciences, Inc. because it has not filed any periodic reports since the period ended May 31, 2000.

It appears to the Securities and Exchange Commission that there is a lack of current and accurate information concerning the securities of Lifesmart Nutrition Technologies, Inc. because it has not filed any periodic reports since the period ended February 28, 2003.

It appears to the Securities and Exchange Commission that there is a lack of current and accurate information concerning the securities of Lightning Rod Software, Inc. because it has not filed any periodic reports since the period ended December 31, 2001.

It appears to the Securities and Exchange Commission that there is a lack of current and accurate information concerning the securities of Lindatech, Inc. because it has not filed any periodic reports since the period ended March 31, 1999.

It appears to the Securities and Exchange Commission that there is a lack of current and accurate information concerning the securities of Littlefield, Adams & Company because it has not filed any periodic reports since the period ended March 31, 2000.

It appears to the Securities and Exchange Commission that there is a lack of current and accurate information concerning the securities of Liuski International. Inc. because it has not filed any periodic reports since the period ended July 20, 1999.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on January 29, 2010, through 11:59 p.m. EST on February 11, 2010.

By the Commission.
Elizabeth M. Murphy,
Secretary.

[FR Doc. 2010-2223 Filed 1-29-10; 11:15 am]

BILLING CODE 8011-01-P